DEPARTMENT OF COMMERCE

International Trade Administration

[A-570-912]

New Pneumatic Off-the-Road Tires from the People's Republic of China: Extension of Preliminary Results of Antidumping Duty Administrative Review

AGENCY: Import Administration, International Trade Administration, Department of Commerce.

SUMMARY: The Department of Commerce (“the Department”) is extending the time limit for the preliminary results of the administrative review of new pneumatic off-the-road tires (“OTR Tires”) from the People's Republic of China (“PRC”). This review covers the period February 20, 2008, through August 31, 2009.

DATES: Effective Date: June 7, 2010.

FOR FURTHER INFORMATION CONTACT: Andrea Staebler Berton or Raquel Silva, AD/CVD Operations, Office 8, Import Administration, International Trade Administration, U.S. Department of Commerce, 14th Street and Constitution Avenue, N.W., Washington, DC 20230; telephone: (202) 482-4037 or (202) 482-6475, respectively.

SUPPLEMENTARY INFORMATION:

Background

On October 26, 2009, the Department published in the Federal Register a notice of initiation of the administrative review of the antidumping duty order on OTR Tires from the PRC. See Initiation of Antidumping and Countervailing Duty Administrative Reviews and Request for Revocation in Part, 74 FR 54956 (October 26, 2009). The preliminary results of this review are currently due no later than June 9, 2010.

Statutory Time Limits

In antidumping duty administrative reviews, section 751(a)(3)(A) of the Tariff Act of 1930, as amended (“the Act”), requires the Department to make a preliminary determination within 245 days after the last day of the anniversary month of an order for which a review is requested and a final determination within 120 days after the date on which the preliminary results are published. However, if it is not practicable to complete the review within these time periods, section 751(a)(3)(A) of the Act allows the Department to extend the time limit for the preliminary determination to a maximum of 365 days after the last day of the anniversary month.

Extension of Time Limit for Preliminary Results of Review

On February 3, 2010, both domestic interested parties¹ submitted letters to the Department expressing concerns about the effect of a bankruptcy petition filed by GPX International Tire Corporation (“GPX”), an importer of record, on the ongoing administrative review. In response to domestic interested parties' concerns, the Department extended regulatory deadlines for Titan and Bridgestone pending resolution of those concerns. On April 30, 2010, Bridgestone informed the Department that its concerns about the GPX bankruptcy had been resolved. In addition, both Titan and Bridgestone have since made submissions to the Department in accordance with the extended regulatory deadlines.

Meanwhile, on February 24, 2010, Tianjin United Tire & Rubber International Co., Ltd. (“TUTRIC”), a mandatory respondent, submitted a withdrawal of its request for review. The Department accepted TUTRIC's withdrawal on March 15, 2010, and chose an additional mandatory respondent on May 5, 2010.

¹ Titan Tire Corporation (“Titan”), and Bridgestone Americas, Inc, and Bridgestone Americas Tire Operations, LLC (collectively “Bridgestone”), both domestic producers of the like product.

In light of the unanticipated delay resulting from issues related to GPX's bankruptcy and the recent selection of an additional mandatory respondent, we determine that it is not practicable to complete the preliminary results of this administrative review within the original time limit. The Department requires additional time to receive questionnaire responses from the substitute mandatory respondent, analyze questionnaire responses, issue supplemental questionnaires, conduct verification, and evaluate surrogate value submissions for purposes of the preliminary results.

Therefore, the Department is extending the time limit for completion of the preliminary results of this administrative review by 120 days. The preliminary results will now be due no later than October 7, 2010.² The final results continue to be due 120 days after the publication of the preliminary results.

² This new preliminary results deadline incorporates the Import Administration's tolling of all deadlines by seven calendar days due to closure of federal government offices in February 2010 from a snowstorm. For further information, please see Memorandum from DAS for Import Administration regarding: Tolling of Administrative Deadlines As A Result of the Government Closure During the Recent Snowstorm, dated February 12, 2010, available at http://ia.ita.doc.gov/ia-highlights-and-news.html.

We are issuing and publishing this notice in accordance with sections 751(a)(3)(A) and 777(i) of the Act.

Dated: May 27, 2010.
John M. Andersen,
Acting Deputy Assistant Secretary for Antidumping and Countervailing Duty Operations.

[FR Doc. 2010-13581 Filed 6-4-10; 8:45 am]

BILLING CODE 3510-DS-S